DEPARTMENT OF TRANSPORTATION

Federal Aviation Administration

14 CFR Part 71

[Docket No. FAA-2011-0438; Airspace Docket No. 11-AWA-4]

RIN 2120-AA66

Amendment to Class B Airspace; Salt Lake City, UT

AGENCY: Federal Aviation Administration (FAA), DOT.

ACTION: Final rule.

SUMMARY: This action modifies the Salt Lake City, UT, Class B airspace to contain aircraft conducting Instrument Flight Rules (IFR) instrument approach procedures to Salt Lake City International Airport (SLC), Salt Lake City, UT. The FAA is taking this action to improve the flow of air traffic, enhance safety, and reduce the potential for midair collision, while accommodating the concerns of airspace users. Further, this effort supports the FAA's national airspace redesign goal of optimizing terminal and en route airspace to reduce aircraft delays and improve system capacity. Minor corrections have been made to the geographic coordinates of the affected legal descriptions, as well as editorial corrections.

DATES: Effective Date: 0901 UTC, October 18, 2012. The Director of the Federal Register approves this incorporation by reference action under 1 CFR part 51, subject to the annual revision of FAA Order 7400.9 and publication of conforming amendments.

FOR FURTHER INFORMATION CONTACT: Colby Abbott, Airspace, Regulations, and ATC Procedures Group, Office of Airspace Services, Federal Aviation Administration, 800 Independence Avenue SW., Washington, DC 20591; telephone: (202) 267-8783.

SUPPLEMENTARY INFORMATION:

History

On August 24, 2011, the FAA published in the Federal Register a notice of proposed rulemaking (NPRM) to modify the Salt Lake City, UT, Class B airspace area (76 FR 52905). Interested parties were invited to participate in this rulemaking effort by submitting written comments on the proposal. Eight written comments were received in response to the NPRM. All comments received were considered before making a determination on the final rule.

Class B airspace designations are published in paragraph 3000 of FAA Order 7400.9V, dated August 9, 2011, and effective September 15, 2011, which is incorporated by reference in 14 CFR 71.1. The Class B airspace designations listed in this document will be subsequently published in the Order.

Discussion of Comments

Four commenters opposed the vertical extension of the Salt Lake City Class B airspace from 10,000 feet MSL to 12,000 feet MSL without mitigating impacts on VFR operations. They challenged the operational and safety benefit of raising the ceiling based on no actual mid-air collision or conflict resolution data having been provided to support taking this action.

This Class B airspace area modification was initiated to ensure containment of large turbine-powered aircraft within Class B airspace. Raising the ceiling of the Salt Lake City Class B airspace to 12,000 feet MSL is necessary to contain the instrument procedures and associated traffic patterns supporting those procedures at SLC. In addition to the approximately 1,000 IFR operations a day operating at and below 12,000 feet MSL within 30 miles of SLC, and the Ad hoc Committee's endorsement of the 12,000 feet MSL ceiling, the raised ceiling is based on operational necessity.

Because SLC is situated in a valley with mountainous terrain to the east and southeast, and southwest, there is only one traffic pattern west of SLC, regardless of traffic flow. Departures from SLC must also climb in the same airspace to the west of SLC before turning on course to clear mountainous terrain. Departing aircraft climb to 10,000 feet MSL to clear the terrain surrounding SLC and remain separated from arrival aircraft established at or descending to the downwind traffic pattern altitude of 11,000 feet MSL. Every arrival into SLC must enter the downwind pattern west of the airport. During periods of high traffic volume, or when incompatible aircraft are operating, air traffic control must also use a 12,000-foot MSL downwind pattern altitude to ensure aircraft separation. Raising the ceiling of the Salt Lake City Class B airspace area around SLC to 12,000 feet MSL also ensures airspace within which all aircraft, IFR and VFR, are subject to the same Class B airspace operating rule; enhancing the safety benefit to all and further reducing the potential for mid-air collisions in the airspace surrounding SLC.

To mitigate impacts on VFR aircraft operating between 10,000 feet and 12,000 feet MSL, the FAA has developed high altitude VFR transition routes, with associated frequencies, altitudes, and route depictions, for inclusion on the Salt Lake City Terminal Area Chart, as discussed further below. This charting was accomplished on April 5, 2012.

One commenter argued against raising the Salt Lake City Class B airspace area ceiling to 12,000 feet MSL, claiming it will have an adverse impact on all general aviation operations in that airspace. The commenter stated (1) the FAA was imposing a non-regulatory 14 CFR part 91.211, Supplemental oxygen, requirement on general aviation aircraft to install supplemental oxygen systems to fly over the Class B airspace; (2) air traffic controller approval/denial authority for VFR clearances through Class B airspace creates an operational barrier to VFR operations where none existed before; and (3) the FAA's only intent is to provide increased operational and safety benefits to one segment of air traffic—Part 121 operators.

The FAA does not agree. First, the 14 CFR 91.211 regulation referenced establishes the requirement for the minimum flight crew of civil aircraft operating at cabin pressure altitudes above 12,500 feet MSL up to and including 14,000 feet MSL to use supplemental oxygen for that part of the flight at those altitudes that exceed thirty minutes. Raising the Salt Lake City Class B airspace area ceiling to 12,000 feet MSL still allows VFR aircraft to pass over the Class B airspace area at 12,500 feet MSL without requiring a supplemental oxygen system. Aircraft with flight durations of thirty minutes or less flying over the Salt Lake City Class B airspace area above 12,500 feet MSL up to and including 14,000 feet MSL may also operate without a supplemental oxygen system. For aircraft without supplemental oxygen systems that are unable to fly over the Salt Lake City Class B airspace ceiling as noted above, there are alternatives to installing a supplemental oxygen system available for transiting the SLC area. Those alternatives include obtaining a Class B clearance, flying established VFR transition routes, and circumnavigating the Salt Lake City Class B airspace area laterally or under the floor of the sub-areas.

Second, the FAA acknowledges that Class B clearances will be required for VFR aircraft that opt to continue flying VFR over SLC between 10,000 feet and 12,000 feet MSL, and that Class B airspace clearance requests from VFR aircraft are based on workload, operational limitations, and traffic conditions. Using radar, the Salt Lake City Terminal Radar Approach Control (TRACON) air traffic controllers have visibility of all aircraft, IFR and VFR, operating in the vicinity of SLC. Knowing the IFR traffic flows and the altitudes and intentions of IFR and VFR aircraft operating in the vicinity of SLC, the TRACON controllers are able to determine if clearance requests to enter or transit the Class B airspace can be safely approved. For Class B airspace clearance requests that can be approved, the TRACON controllers will continue to issue clearances with altitude and routing instructions to provide positive separation from all other aircraft, IFR and VFR, operating within the Class B airspace.

Lastly, this Class B airspace modification provides operational and safety benefits to all airspace users operating in the vicinity of SLC. The modified Class B airspace areas were designed to ensure all instrument procedures and associated traffic patterns for those procedures are contained within Class B airspace. However, a number of adjustments to the Salt Lake City Class B airspace area were made during the proposal process to ensure the airspace modification supported all interested airspace users. Revising the surface area boundary, amending floor altitudes of various sub-areas, charting high altitude VFR transition routes, and modifying VFR flyways, as suggested, are all examples of the efforts taken to ensure the final Salt Lake City Class B airspace design provides operational and safety benefits to all airspace users in the vicinity of SLC.

Four commenters were concerned that raising the Salt Lake City Class B airspace ceiling would result in a reduction of general aviation aircraft that are able to transition above the Class B airspace area and would force many general aviation pilots to fly at lower altitudes under the Class B airspace shelves, resulting in increased congestion in mountainous terrain, or circumnavigate the Class B airspace area altogether, using less efficient routing at more expense.

The FAA understands the need for safe routes for VFR aircraft to transition through, around, and under the Class B airspace. For VFR aircraft that are unable to overfly the modified Class B airspace ceiling (12,000 feet MSL), and decide not to contact Salt Lake City TRACON to receive Class B services, there are a number of airspace modifications made to the Class B airspace area to minimize impacts to VFR pilots flying under the Class B airspace shelves or opting to circumnavigate the Class B airspace altogether. The floor of Class B airspace south of Point of the Mountain was raised from 9,000 feet MSL to 10,000 feet MSL and the airspace west/northwest of the Point of the Mountain was raised from 7,000 feet MSL to 8,000 feet MSL to allow north- and south-bound VFR aircraft flying along I-15 and Point of the Mountain to remain 1,000 feet higher, at all times, than the previous Class B airspace allowed. The modified Salt Lake City Class B airspace design also incorporated reductions to the northern and southern boundaries of the Class B surface area to provide additional airspace for east- and west-bound VFR aircraft to fly under the Class B airspace area; thus reducing the flying miles to be flown when compared to the previous Class B surface area. The Class B airspace along the ridgeline of the Wasatch Mountains was raised from the 9,000 feet MSL to 10,500 feet MSL to accommodate glider operations and VFR aircraft crossing the ridgeline.

Four commenters were concerned that general aviation pilots would not have as many alternatives as possible to transit through, over, and near the Salt Lake City Class B airspace. They requested the FAA consider all available means of accommodating general aviation to include an East-West VFR transit corridor, T-routes, VFR transitions, and VFR flyways.

Salt Lake City's traffic flows and pattern altitudes make establishing a VFR corridor impractical. Salt Lake City has only one downwind leg that passes west of the airport, and approximately 50 percent of Salt Lake City's departure traffic departs to the west/northwest, climbing to 10,000 feet MSL to clear terrain. The only way to allow a VFR aircraft to transit Salt Lake City Class B airspace at or below 10,000 feet MSL would be to stop the departures. These departures would conflict with any VFR corridor design that passed over the airport.

However, as recommended by the commenters and the Ad hoc Committee, the FAA has published frequencies, altitudes, and VFR transition and flyway routes on the Salt Lake City Terminal Area Chart to minimize the Class B airspace modification impact to VFR aircraft. The published VFR transition routes are established at 10,500 feet MSL for westbound traffic and at 11,500 feet MSL for eastbound traffic. Additionally, the VFR flyway amendment recommendations the FAA received have been incorporated on the VFR Flyway Planning Chart, as provided and addressed in the NPRM.

One commenter expressed concern that VFR aircraft flying near and above 12,000 feet MSL over Park City, UT, would conflict with IFR aircraft from SLC as a result of the Salt Lake City Class B airspace modification.

The FAA notes that Park City, UT, is located approximately 22 miles east southeast of SLC and approximately 19 miles east of the nearest boundary of the Salt Lake City Class B airspace. An analysis of SLC departure traffic indicates that aircraft departing for locations to the east are above 12,000 feet MSL approximately 16 miles west northwest of Park City and are not a factor for VFR aircraft over Park City, at and above 12,000 feet MSL. The modification of the Salt Lake City Class B airspace area was designed to contain existing instrument procedures and large turbo-powered aircraft arriving/departing SLC. The existing departure procedures, altitudes, and flight tracks for the same fleet mix are unchanged by this Class B airspace modification. Since the Salt Lake City TRACON will continue using the same departure procedures, altitudes, and flight tracks in use today, no IFR-VFR aircraft traffic issues over Park City, UT, are expected.

One commenter stated it is virtually impossible to depart South Valley Regional Airport (U42) in Instrument Meteorological Conditions (IMC), or even marginal VFR conditions, on an IFR clearance due to conflicts with the IFR traffic flow into and out of SLC. The commenter requested the FAA address the issue by developing a viable IFR departure procedure for U42 so that any minor modifications to the Salt Lake City Class B modification could be incorporated into this regulatory action.

The delays associated with IFR operations at U42 are related to terrain, the close proximity of SLC, and non-radar separation requirements. The FAA's Flight Procedures Development Team was asked to review the issue identified above and recommend any alternatives or solutions that could be considered. Unfortunately, they could offer no solution due to U42's geographic proximity to SLC with its associated high density air traffic operations. Salt Lake City TRACON personnel met with the U42 Fixed Base Operator (FBO) owner to discuss the U42 operation, ensure understanding of the limitations by all parties, and reinforce the importance of coordinating IFR operations ahead of time as the best way to address departure delays at U42.

Differences From the NPRM

Editorial corrections have been made to the wording of the Salt Lake City Class B airspace legal description to remove duplicative information and excessive verbiage, simplify sub-area descriptions, and improve clarity. These corrections standardize the format only and do not affect the areas described.

In the Salt Lake City Class B airspace legal description header, the VORTAC listed as the “Salt Lake City VORTAC (TCH)” is corrected to read the “Wasatch VORTAC (TCH)”. The geographic coordinates defining the VORTAC location were correct as published and remain unchanged.

Two typographical errors were also noted in the NPRM that affect the descriptions of Areas F, G, and H. The first typographical error listed the geographic coordinates for the southwest corner of Area F and northwest corner of Area G as “lat. 40°30′55″ N., long. 112°07′00″ W.”, and is corrected to read “lat. 40°30′33″ N., long. 112°07′00″ W.” in both area descriptions. The second typographical error listed the geographic coordinates for the northwest corner of Area H as “lat. 40°27′07″ N., long. 112°07′00″ W.”, and is corrected to read “lat. 40°24′07″ N., long. 112°07′00″ W.” to match the geographic coordinate information for the same point described in Area G.

Additionally, this action makes a minor correction to the western boundary of Area I to ensure a 0.5 NM buffer east of the extended RNAV 35 final approach. The Wasatch VORTAC (TCH) DME and geographic position coordinates listed as “24.1-mile DME” and “lat. 40°27′05″ N., long. 111°54′51″ W.” that were used to define the northern point of that boundary are corrected to read “24.4-mile DME” and “lat. 40°26′51″ N., long. 111°54′42″ W.” The corresponding information for that point contained in Area G is also corrected. The geographic position coordinates listed as “lat. 40°18′14″ N., long. 111°53′40″ W.” used to define the southern point of that boundary are corrected to read “lat. 40°18′14″ N., long. 111°53′42″ W.” The corresponding information for that point contained in Area H is also corrected. Lastly, the geographic position coordinates listed as “lat. 40°24′12″ N., long. 111°54′36″ W.” used to define the southeast corner of Area G and northeast corner of Area H, along the corrected western boundary of Area I, are corrected to read “lat. 40°24′19″ N., long. 111°54′23″ W.”

Finally, this action makes a number of corrections to the “seconds” component of the lat./long. geographic coordinates to better match this information with the corresponding visual landmark or fix/radial/distance information for the associated point. These minor editorial corrections do not change the affected areas.

Radials listed in this rule are stated in degrees relative to True North.

The Rule

The FAA is amending Title 14 of the Code of Federal Regulations (14 CFR) part 71 to modify the Salt Lake City, UT, Class B airspace area. This action (depicted on the attached chart) raises the existing ceiling from 10,000 feet MSL to 12,000 feet MSL, and makes various boundary modifications in order to provide the additional airspace that is necessary to contain all instrument procedures at SLC and the large turbo-powered aircraft flying those instrument procedures within the confines of Class B airspace. The modifications better segregate IFR aircraft arriving/departing SLC and VFR aircraft operating in the vicinity of the Salt Lake Class B airspace area. The following are the revisions to the Salt Lake City Class B airspace area:

Area A. Redefined from the surface to 12,000 feet MSL. The northern boundary is moved south an average of 2 miles to allow VFR aircraft to transition westbound sooner and relieve congestion between the Hill Air Force Base (AFB) Class D airspace and Salt Lake City Class B surface area airspace. The boundary north of the Skypark Airport (BTF) is moved slightly to the west to relieve congestion between the Class B surface area airspace and the Wasatch Mountains. The southern boundary surface area airspace East of U42 is combined with the new Area D as noted below.

Area B. Incorporates portions of existing Areas B and J, and establishes a floor at 7,800 feet MSL and ceiling at 12,000 feet MSL. The western boundary changes from the SLC Runway 17 ILS/DME antenna (I-BNT) 25-mile DME arc to the TCH 20-mile DME arc. Raising the floor matches the existing Class B airspace area over Hill AFB and allows VFR aircraft operating in the area to climb sooner.

Area C. New area established by incorporating a portion of existing Area A, raising the floor from the surface to 6,000 feet MSL and the ceiling to 12,000 feet MSL, to reduce congestion between the Hill AFB Class D airspace and the Salt Lake City Class B surface area airspace to allow VFR aircraft easier access to transit north of SLC below the Class B airspace area.

Area D. Expands laterally into existing Class B airspace with the ceiling raised to 12,000 feet MSL. Incorporates a portion of the existing Area A located East of U42, raising the floor from the surface to 6,000 feet MSL, to allow VFR aircraft easier access to and from U42.

Area E. Combines existing Areas C and K with the floor established at 6,500 feet MSL and the ceiling raised to 12,000 feet MSL. The southern boundary is extended south slightly using the TCH 16-mile DME arc. The southwest portion of the boundary is relocated east slightly using the TCH 12-mile DME arc to eliminate terrain penetrations of Class B airspace. The western boundary is defined by the TCH 13.5-mile DME arc instead of the I-BNT 13-mile DME arc.

Area F. New area established in existing Area E with the ceiling raised to 12,000 feet MSL and the northern boundary defined by the TCH 16-mile DME arc instead of the I-BNT 11 DME arc. The southern boundary is moved south slightly to contain runway 34L and 34R ILS approaches.

Area G. Combines existing Areas F and G with the floor established at 8,000 feet MSL and ceiling raised to 12,000 feet MSL. The southern boundary is established approximately four miles south of the existing Areas F and G southern boundary to allow IFR traffic during simultaneous independent ILS approaches to join final closer to SLC.

Area H. Similar to existing Area H, with the floor established at 9,000 feet MSL and ceiling raised to 12,000 feet MSL. Expanded slightly to the west to use the same longitude for its boundary as the new Area G and redefines the southern boundary further north by using the TCH 33-mile DME arc.

Area I. New area established east of area H with the floor established at 10,000 feet MSL and ceiling at 12,000 feet MSL. Designed to capture arrival traffic from the southeast.

Area J. New area established over the north end of the Oquirrh Mountains with the floor established at 11,000 feet MSL and ceiling at 12,000 feet MSL. This area contains IFR departure traffic climbing southbound, as well as arrival traffic being vectored to the downwind.

Area K. New area established redefining a portion of existing Area B with the floor raised to 8,600 feet MSL and ceiling to 12,000 feet MSL. Provides additional airspace for VFR aircraft.

Area L. Redefines a portion of existing Area I (northern section) with the floor raised to 10,500 feet MSL and ceiling to 12,000 feet MSL. Allows north-flow departures from SLC to climb and turn eastbound on course. The eastern boundary of this new area is moved to the west along the Wasatch Mountains ridgeline. The southern section of existing Area I is deleted.

Area M. Similar to existing Area M with the floor at 9,000 feet MSL and ceiling raised to 12,000 feet MSL. The lateral boundaries extend slightly with the northern boundary extended north to the TCH 26-mile DME arc and the western boundary extended west approximately one mile.

Area N. New area established north of the existing Salt Lake City Class B airspace area with the floor at 10,000 feet MSL and ceiling at 12,000 feet MSL. Contains aircraft flying instrument approaches to SLC runway 17.

Area O. New area established in existing Class B airspace north and east of SLC with the floor at 7,500 feet MSL and ceiling raised to 12,000 feet MSL. Provides containment of aircraft flying instrument approaches to SLC runway 16R and 16L.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Paperwork Reduction Act

The Paperwork Reduction Act of 1995 (44 U.S.C. 3507(d)) requires that the FAA consider the impact of paperwork and other information collection burdens imposed on the public. We have determined that there is no new information collection requirement associated with this final rule.

Regulatory Evaluation Summary

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

Department of Transportation Order DOT 2100.5 prescribes policies and procedures for simplification, analysis, and review of regulations. If the expected cost impact is so minimal that a proposed or final rule does not warrant a full evaluation, this order permits that a statement to that effect and the basis for it to be included in the preamble if a full regulatory evaluation of the cost and benefits is not prepared. Such a determination has been made for this final rule. The reasoning for this determination follows:

After consultation with a diverse cross-section of stakeholders that participated in the Ad hoc Committee to develop the recommendations contained in this rule, and a review of the recommendations and comments, the FAA expects that this final rule would result in minimal cost. The FAA is taking this action to improve the flow of air traffic, enhance safety, and reduce the potential for midair collision in the Salt Lake City Class B airspace.

The FAA received comments to the NPRM that indicated concern with the rule from an economic standpoint. Commenters such as the Aircraft Owners and Pilots Association (AOPA) expressed the concern that an increase to the ceiling height of Salt Lake City Class B airspace will result in general aviation pilots taking less efficient routing to circumnavigate the Class B airspace. The Experimental Aircraft Association (EAA) fears that general aviation operators who are unable to comply with the supplemental oxygen requirement or unable to obtain air traffic control clearance to fly visual flight rules (VFR) into the Class B will be forced to fly thousands of miles around the Salt Lake City Class B airspace in mountainous terrain. The result would be to cost general aviation aircraft operators thousands of dollars in unanticipated aircraft operating expenses and place the aircraft and passengers over hostile, mountainous terrain for extended periods of time.

The FAA has restructured the airspace to allow sufficient alternatives to circumnavigation for VFR traffic. The restructuring and other FAA actions include the following:

• Raising Class B airspace floors south of and west/northwest of the Point of the Mountain 1,000 feet to allow north- and south-bound VFR aircraft flying along I-15 more airspace to fly under the SLC Class B airspace area;

• Reducing Class B surface area northern and southern boundaries to provide more airspace for east- and west-bound VFR aircraft to fly under the Class B airspace area;

• Raising Class B airspace floor along the Wasatch Mountains ridgeline 1,500 feet to provide more airspace for VFR aircraft crossing the ridgeline;

• Establishing and charting high altitude VFR transition routes at 10,500 feet MSL for westbound traffic and at 11,500 feet MSL for eastbound traffic, with associated frequencies, on the Salt Lake City Terminal Area Charts; and

• Adopting VFR flyway amendment recommendations received from the Ad hoc Committee and NPRM commenters.

The FAA provided numerous alternatives for GA traffic to fly in the Salt Lake City airspace. As such, we estimate a minimal impact.

FAA has, therefore, determined that this final rule is not a “significant regulatory action” as defined in section 3(f) of Executive Order 12866, and is not “significant” as defined in DOT's Regulatory Policies and Procedures.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA. However, if an agency determines that a rule is not expected to have a significant economic impact on a substantial number of small entities, section 605(b) of the RFA provides that the head of the agency may so certify and a regulatory flexibility analysis is not required. The certification must include a statement providing the factual basis for this determination, and the reasoning should be clear.

The FAA believes the rule would not have a significant economic impact on a substantial number of small entities as the economic impact is expected to be minimal.

Therefore, the FAA Administrator certifies that this final rule will not have a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this final rule and determined that it will enhance safety and is not considered an unnecessary obstacle to trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million. This final rule does not contain such a mandate; therefore, the requirements of Title II of the Act do not apply.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9V, Airspace Designations and Reporting Points, dated August 9, 2011, and effective September 15, 2011, is amended as follows:

Paragraph 3000 Subpart B—Class B Airspace.

* * * * *

ANM UT B Salt Lake City, UT [Modified]

Salt Lake City International Airport (Primary Airport)

(Lat. 40°47′18″ N., long. 111°58′40″ W.)

Wasatch VORTAC (TCH)

(Lat. 40°51′01″ N., long. 111°58′55″ W.)

Hill AFB (HIF)

(Lat. 41°07′26″ N., long. 111°58′23″ W.)

Boundaries

Area A. That area extending upward from the surface to and including 12,000 MSL, within an area bounded by a line beginning at the TCH 20° radial 6.6-mile DME at lat. 40°57′13″ N., long. 111°55′56″ W.; thence south to the intersection of Redwood Rd. and W. 500 South St. at the TCH 049° radial 3.1-mile DME at lat. 40°53′02″ N., long. 111°55′48″ W.; thence south to Center St. at the TCH 102° radial 2.3-mile DME at lat. 40°50′32″ N., long. 111°55′57″ W.; thence east along Center St. to Interstate 15 (I-15) at the 4.3-mile DME radius of the Salt Lake City International Airport at the TCH 099° radial 3-mile DME at lat. 40°50′32″ N., long. 111°54′56″ W.; thence clockwise along the 4.3-mile DME radius of the Salt Lake City International Airport to I-15 at the TCH 151° radial 7.3-mile DME at lat. 40°44′37″ N., long. 111°54′15″ W.; thence south along I-15 to W. 5300 South St. at the TCH 163° radial 12.3-mile DME at lat. 40°39′17″ N., long. 111°54′06″ W.; thence west to the Usana Amphitheatre at the TCH 192° radial 11.8-mile DME at lat. 40°39′28″ N., long. 112°02′08″ W.; thence northwest to the intersection of State Route 201 (SR-201) and S. 8000 West St. at the TCH 210° radial 9.1-mile DME at lat. 40°43′06″ N., long. 112°04′56″ W.; thence northwest to Interstate 80 (I-80) at the TCH 239° radial 9-mile DME at lat. 40°46′22″ N., long. 112°09′04″ W.; thence north to a point southeast of Seagull Point on Antelope Island at the TCH 304° radial 9.3-mile DME at lat. 40°56′13″ N., long. 112°09′05″ W.; thence east to the point of beginning.

Area B. That airspace extending upward from 7,800 feet MSL to and including 12,000 feet MSL, within an area bounded by a line beginning at the TCH 265° radial 12-mile DME at lat. 40°49′57″ N., long 112°14′40″ W.; thence west along the TCH 265° radial to the 20-mile DME arc at lat. 40°49′13″ N., long. 112°25′09″ W.; thence clockwise along the TCH 20-mile DME arc to the 4.3-mile DME radius of Hill AFB at the TCH 009° radial at lat. 41°10′47″ N., long. 111°54′48″ W.; thence clockwise along the 4.3-mile DME radius of Hill AFB to W. 1700 South St. at the TCH 347° radial 14.7-mile DME at lat. 41°05′20″ N., long. 112°03′21″ W.; thence west along W. 1700 South St. to the TCH 329° radial 16.8-mile DME at lat. 41°05′22″ N., long. 112°10′20″ W.; thence south to the TCH 316° radial 11.6-mile DME at lat. 40°59′21″ N., long. 112°09′33″ W.; thence south to a point southeast of Seagull Point on Antelope Island at the TCH 304° radial 9.3-mile DME at lat. 40°56′13″ N., long. 112°09′05″ W.; thence southwest to the point of beginning.

Area C. That airspace extending upward from 6,000 feet MSL to and including 12,000 feet MSL, within an area bounded by a line beginning at the TCH 316° radial 11.6-mile DME at lat. 40°59′21″ N., long. 112°09′33″ W.; thence east to I-15 at the TCH 013° radial 9.8-mile DME at lat. 41°00′34″ N., long. 111°56′00″ W.; thence south to the TCH 020° radial 6.6-mile DME at lat. 40°57′13″ N., long. 111°55′56″ W.; thence west to a point southeast of Seagull Point on Antelope Island at the TCH 304° radial 9.3-mile DME at lat. 40°56′13″ N., long. 112°09′05″ W.; thence north to the point of beginning.

Area D. That airspace extending upward from 6,000 feet MSL to and including 12,000 feet MSL, within an area bounded by a line beginning at the Usana Amphitheatre at the TCH 192° radial 11.8-mile DME at lat. 40°39′28″ N., long. 112°02′08″ W.; thence east to the intersection of I-15 and W. 5300 South St. at the TCH 163° radial 12.3-mile DME at lat. 40°39′17″ N., long. 111°54′06″ W.; thence south along I-15 to the TCH 169° radial 20.7-mile DME at lat. 40°30′43″ N., long. 111°53′31″ W.; thence west to the TCH 184° radial 20.4-mile DME at lat. 40°30′38″ N., long. 112°00′33″ W.; thence north to the TCH 184° radial 16-mile DME at lat. 40°35′03″ N., long. 112°00′23″ W.; thence clockwise along the TCH 16-mile DME arc to State Route 48 (SR-48) at the TCH 189° radial at lat. 40°35′13″ N., long. 112°02′18″ W.; thence north to the point of beginning.

Area E. That airspace extending upward from 6,500 feet MSL to and including 12,000 feet MSL, within an area bounded by a line beginning on SR-48 at the TCH 189° radial 16-mile DME arc at lat. 40°35′13″ N., long. 112°02′18″ W.; thence clockwise along the TCH 16-mile DME arc to the TCH 203° radial at lat. 40°36′14″ N., long. 112°07′00″ W.; thence north along long. 112°07′00″ W. to the TCH 211° radial 12-mile DME at lat. 40°40′42″ N., long. 112°07′00″ W.; thence clockwise along the TCH 12-mile DME arc to the railroad tracks at the TCH 233° radial at lat. 40°43′43″ N., long. 112°11′27″ W.; thence west along the railroad tracks to the TCH 236° radial 13.5-mile DME at lat. 40°43′27″ N., long. 112°13′38″ W.; thence clockwise along the TCH 13.5-mile DME arc to the TCH 265° radial at lat. 40°49′49″ N., long. 112°16′38″ W.; thence east along the TCH 265° radial to the TCH 12-mile DME at lat. 40°49′57″ N., long. 112°14′40″ W.; thence northeast to a point southeast of Seagull Point on Antelope Island at the TCH 304° radial 9.3-mile DME at lat. 40°56′13″ N., long. 112°09′05″ W.; thence south to I-80 at the TCH 239° radial 9-mile DME at lat. 40°46′22″ N., long. 112°09′04″ W.; thence southeast to the intersection of SR-201 and S. 8000 West St. at the TCH 210° radial 9.1-mile DME at lat. 40°43′06″ N., long. 112°04′56″ W.; thence southeast to the Usana Amphitheatre at the TCH 192° radial 11.8-mile DME at lat. 40°39′28″ N., long. 112°02′08″ W.; thence south to the point of beginning.

Area F. That airspace extending upward from 7,000 feet MSL to and including 12,000 feet MSL, within an area bounded by a line beginning at the TCH 184° radial 16-mile DME at lat. 40°35′03″ N., long. 112°00′23″ W.; thence clockwise along the TCH 16-mile DME arc to the TCH 203° radial at lat. 40°36′14″ N., long. 112°07′00″ W.; thence south along long. 112°07′00″ W. to the TCH 197° radial 21.4-mile DME at lat. 40°30′33″ N., long. 112°07′00″ W.; thence east to the TCH 184° radial 20.4-mile DME at lat. 40°30′38″ N., long. 112°00′33″ W.; thence north to the point of beginning.

Area G. That airspace extending upward from 8,000 feet MSL to and including 12,000 feet MSL, within an area bounded by a line beginning on I-15 at the TCH 169° radial 20.7-mile DME at lat. 40°30′43″ N., long. 111°53′31″ W.; thence south along I-15 to the TCH 172° radial 24.4-mile DME at lat. 40°26′51″ N., long. 111°54′42″ W.; thence south along the TCH 173° radial to the TCH 26.9-mile DME at lat. 40°24′19″ N., long. 111°54′23″ W.; thence west to the TCH 193° radial 27.6-mile DME at lat. 40°24′07″ N., long. 112°07′00″ W.; thence north along long. 112°07′00″ W. to the TCH 197° radial 21.4-mile DME at lat. 40°30′33″ N., long. 112°07′00″ W.; thence east to the point of beginning. Excluding R-6412, when active.

Area H. That airspace extending upward from 9,000 feet MSL to and including 12,000 feet MSL, within an area bounded by a line beginning at the TCH 193° radial 27.6-mile DME at lat. 40°24′07″ N., long. 112°07′00″ W.; thence south along long. 112°07′00″ W. to the TCH 191° radial 33-mile DME at lat. 40°18′34″ N., long. 112°07′00″ W.; thence counter clockwise along the TCH 33-mile DME arc to the TCH 173° radial at lat. 40°18′14″ N., long. 111°53′42″ W.; thence north along the TCH 173° radial to the TCH 26.9-mile DME at lat. 40°24′19″ N., long. 111°54′23″ W.; thence west to the point of beginning. Excluding R-6412, when active.

Area I. That airspace extending upward from 10,000 feet MSL to and including 12,000 feet MSL, within an area bounded by a line beginning on I-15 at the TCH 172° radial 24.4-mile DME at lat. 40°26′51″ N., long. 111°54′42″ W.; thence south along I-15 to intercept the TCH 160° radial 33-mile DME at lat. 40°19′54″ N., long. 111°44′26″ W.; thence clockwise along the TCH 33-mile DME arc to the TCH 173° radial at lat. 40°18′14″ N., long. 111°53′42″ W.; thence north along the TCH 173° radial to the point of beginning.

Area J. That airspace extending upward from 11,000 feet MSL to and including 12,000 feet MSL, within an area bounded by a line beginning on the railroad tracks at the TCH 238° radial 20-mile DME at lat. 40°40′22″ N., long. 112°21′12″ W.; thence east along the railroad tracks to the TCH 233° radial 12-mile DME at lat. 40°43′43″ N., long. 112°11′27″ W.; thence counter clockwise along the TCH 12-mile DME arc to the TCH 211° radial at lat. 40°40′42″ N., long. 112°07′00″ W.; thence south along long. 112°07′00″ W. to the TCH 198° radial 20-mile DME at lat. 40°31′58″ N., long. 112°07′00″ W.; thence clockwise along the TCH 20-mile DME arc to the point of beginning.

Area K. That airspace extending upward from 8,600 feet MSL to and including 12,000 feet MSL, within an area bounded by a line beginning at the TCH 265° radial 13.5-mile DME at lat. 40°49′49″ N., long. 112°16′38″ W.; thence west along the TCH 265° radial to intercept the TCH 20-mile DME arc at lat. 40°49′13″ N., long. 112°25′09″ W.; thence counter clockwise along the TCH 20-mile DME arc to the railroad tracks at the TCH 238° radial at lat. 40°40′22″ N., long. 112°21′12″ W.; thence east along the railroad tracks to the TCH 236° radial 13.5-mile DME at lat. 40°43′27″ N., long. 112°13′38″ W.; thence clockwise along the TCH 13.5-mile DME arc to the point of beginning.

Area L. That airspace extending upward from 10,500 feet MSL to and including 12,000 feet MSL, within an area bounded by a line beginning at the intersection of the Wasatch Mountains ridge line and Interstate 84 (I-84) at the TCH 016° radial 18-mile DME at lat. 41°08′17″ N., long. 111°52′18″ W.; thence west along I-84 to the 4.3-mile radius of Hill AFB at the TCH 015° radial 17.9-mile DME at lat. 41°08′16″ N., long. 111°52′48″ W.; thence clockwise along the 4.3-mile radius of Hill AFB to U.S. Highway 89 at the TCH 014° radial 13.6-mile DME at lat. 41°04′11″ N., long. 111°54′39″ W.; thence south along U.S. Highway 89 to I-15 at the TCH 024° radial 9-mile DME at lat. 40°59′14″ N., long. 111°54′05″ W.; thence south along I-15 to the TCH 072° radial 4-mile DME at lat. 40°52′16″ N., long. 111°53′50″ W.; thence east along lat. 40°52′16″ N. to the TCH 081° radial 8-mile DME at lat. 40°52′16″ N., long. 111°48′30″ W.; thence north along long. 111°48′30″ W. to the Wasatch Mountains ridge line at the TCH 059° radial 9.2-mile DME at lat. 40°55′45″ N., long. 111°48′30″ W.; thence north along the Wasatch Mountains ridge line to the point of beginning.

Area M. That airspace extending upward from 9,000 feet MSL to and including 12,000 feet MSL, within an area bounded by a line beginning on I-15 at the TCH 356° radial 26-mile DME at lat. 41°16′57″ N., long. 112°01′33″ W.; thence counter clockwise along the TCH 26-mile DME arc to the TCH 338° radial at lat. 41°15′07″ N., long. 112°11′50″ W.; thence south to the TCH 333° radial 20-mile DME at lat. 41°08′50″ N., long. 112°10′56″ W.; thence clockwise along the TCH 20-mile DME arc to I-15 at the TCH 356° radial at lat. 41°10′58″ N., long. 112°00′49″ W.; thence north along I-15 to the point of beginning.

Area N. That airspace extending upward from 10,000 feet MSL to and including 12,000 feet MSL, within an area bounded by a line beginning on I-15 at the TCH 356° radial 26-mile DME at lat. 41°16′57″ N., long. 112°01′33″ W.; thence clockwise along the TCH 26-mile DME arc to North Mountain Rd. at the TCH 003° radial at lat. 41°16′59″ N., long. 111°56′57″ W.; thence south on North Mountain Rd., which turns into Harrison Blvd., to the TCH 004° radial 20-mile DME at lat. 41°10′58″ N., long. 111°56′56″ W.; thence counter clockwise along the TCH 20-mile DME arc to I-15 at the TCH 356° radial at lat. 41°10′58″ N., long. 112°00′49″ W.; thence north along I-15 to the point of beginning.

Area O. That airspace extending upward from 7,500 feet MSL to and including 12,000 feet MSL, within an area bounded by a line beginning at the intersection of U.S. Highway 89 and a 4.3-mile radius from Hill AFB at the TCH 014° radial 13.6-mile DME at lat. 41°04′11″ N., long. 111°54′39″ W.; thence clockwise along the 4.3-mile radius from Hill AFB to 1700 South St. at the TCH 347° radial 14.7-mile DME at lat. 41°05′20″ N., long. 112°03′21″ W.; thence west along W. 1700 South St. to the TCH 329° radial 16.8-mile DME at lat. 41°05′22″ N., long. 112°10′20″ W.; thence south to the TCH 316° radial 11.6-mile DME at lat. 40°59′21″ N., long. 112°09′33″ W.; thence east to I-15 at the TCH 013° radial 9.8-mile DME at lat. 41°00′34″ N., long. 111°56′00″ W.; thence south to the TCH 020° radial 6.6-mile DME at lat. 40°57′13″ N., long. 111°55′56″ W.; thence south to the intersection of Redwood Rd. and W. 500 South St. at the TCH 049° radial 3.1-mile DME at lat. 40°53′02″ N., long. 111°55′48″ W.; thence south to Center St. at the TCH 102° radial 2.3-mile DME at lat. 40°50′32″ N., long. 111°55′57″ W.; thence east along Center St. to I-15 at the TCH 099° radial 3-mile DME at lat. 40°50′32″ N., long. 111°54′56″ W.; thence north along I-15 to U.S. Highway 89 at the TCH 024° radial 9-mile DME at lat. 40°59′14″ N., long. 111°54′05″ W.; thence north along U.S. Highway 89 to the point of beginning.

Issued in Washington, DC, on August 2, 2012.
Gary A. Norek,
Manager, Airspace Policy and ATC Procedures Group.

BILLING CODE 4910-13-P

[FR Doc. 2012-19583 Filed 8-16-12; 8:45 am]

BILLING CODE 4910-13-C